ENVIRONMENTAL PROTECTION AGENCY

[EPA-HQ-OPP-2006-0273; FRL-7771-6]

The Association of American Pesticide Control Officials State FIFRA Issues Research and Evaluation Group Working Committee on Water Quality and Pesticide Disposal Public Meeting

AGENCY: Environmental Protection Agency (EPA).

ACTION: Notice.

SUMMARY: The Association of American Pesticide Control Officials (AAPCO)/State FIFRA Issues Research and Evaluation Group (SFIREG) Working Committee on Water Quality and Pesticide Disposal (WC/WQ&PD) will hold a 2-day meeting, beginning on April 24, 2006 and ending April 25, 2006. This notice announces the location and times for the meeting and sets forth the tentative agenda topics.

DATES: The meeting will be held on April 24, 2006 from 9 a.m. to 5 p.m. and 9 a.m. to 12 p.m. on April, 25, 2006.

ADDRESS: The meeting will be held at Mayflower Park Hotel, 4th and Olive Streets, Seattle, WA, 98101, telephone number: (206) 623-8700.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate.

This action is directed to the public in general, and may be of particular interest to those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under Docket identification number (ID) EPA-HQ-OPP-2006-0273; FRL-7771-6. Publicly available docket materials are available either electronically at http://www.regulations.gov or in hard copy at the Public Information and Records Integrity Branch (PIRIB), Rm. 119, Crystal Mall #2, 1801 S. Bell St., Arlington, VA. The Docket Facility is open from 8:30 a.m. to 4 p.m., Monday through Friday, excluding legal holidays. The telephone number for the Docket Facility is (703) 305-5805.

2. Electronic access. You may access this Federal Register document electronically through the EPA Internet under the Federal Register listings at http://www.epa.gov/fedrgstr/.

II. Tentative Agenda

1. Protecting Water Quality from Pesticides: Opportunities for State-Federal Partnerships.

2. U.S. Geological Survey National Water Quality Assessment Report on Pesticides in Streams and Ground Water.

3. Prioritizing Ambient Water Criteria for Pesticides.

4. Endangered Species and Pesticide Water Quality Issues.

5. Pesticide-Impaired Water Bodies.

6. Pesticide Degradates.

7. EPA Water Quality Performance Measures.

8. Water Quality & Pesticide Disposal Working Committee Workgroups Issue Papers/Updates.

9. FIFRA/CWA: Court Cases, USEPA Proposed Rule.

10. Water Quality Pesticide Regulatory Education Program Course.

11. Pesticide Recycling Survey.

12. EPA Update/Briefing:

a. Office of Pesticide Programs Update.

b. Office of Enforcement Compliance Assurance Update.

List of Subjects

Environmental protection, Endangered species, Pesticides and pests, Recycling, Water quality.

Dated: March 23, 2006.
William R. Diamond,
Director, Field and External Affairs Division, Office of Pesticide Programs.

[FR Doc. E6-4846 Filed 4-4-06; 8:45 am]

[BILLING CODE 6560-50-S